DEPARTMENT OF THE INTERIOR

Fish and Wildlife Service

50 CFR Part 17

RIN 1018-AU12

Endangered and Threatened Wildlife and Plants; Notice of Six-Month Extension and Reopening of Comment Period for the Proposed Delisting of the Preble's Meadow Jumping Mouse (Zapus hudsonius preblei)

AGENCY: Fish and Wildlife Service, Interior.

ACTION: Proposed Rule; reopening of comment period.

SUMMARY: We, the U.S. Fish and Wildlife Service (Service), extend for not more than six months, the time to make a decision on the proposal to delist the Preble's meadow jumping mouse (Zapus hudsonius preblei) and announce the reopening of the comment period. Since the close of the public comment period, we have received additional information which may be influential in our final decision. The extension is sought pursuant to section 4(b)(6)(B)(i) of the ESA because a recently completed and unpublished study substantially disagrees with the determination contained in the proposed rule that Preble's is not a distinct subspecies. Some of this new information conflicts with information given significant weight in the proposed rule. In order to ensure the public has full access to and an opportunity to comment on all available information, we are reopening the public comment period for 60 days. The Service will make a final decision based on the best scientific and commercial information available. Comments previously submitted need not be resubmitted as they have already been incorporated into the public record and will be fully considered in the final decision and rule.

DATES: The public comment period is reopened until April 18, 2006. Any comments that are received after the closing date may not be considered in the final decision on the proposal.

ADDRESSES: Documents relative to this proposed rule are available at http://mountain-prairie.fws.gov/preble/. If you wish to comment, you may submit your comments and materials concerning the proposal by one of several methods:

1. You may submit written comments to Field Supervisor, Colorado Field Office, Ecological Services, P.O. Box 25486, Denver Federal Center, Denver, CO 80225.

2. You may hand deliver comments to our Colorado Field Office at 134 Union Blvd., Suite 670, Lake Plaza North, Lakewood, CO 80228 or send via facsimile (fax 303-236-0027).

3. You may send comments via electronic mail (e-mail) to FW6_PMJM@fws.gov. See the Public Comments Solicited section below for file format and other information about electronic filing.

The complete file for the finding and proposed rule is available for inspection, by appointment, during normal business hours, at the above address.

FOR FURTHER INFORMATION CONTACT: Susan Linner, Field Supervisor, at the Colorado Field Office (see ADDRESSES section) or telephone (303) 236-7400. Persons who use a telecommunications device for the deaf (TDD) may call the Federal Information Relay Service (FIRS) at 1-800-877-8339, 24 hours a day, 7 days a week.

SUPPLEMENTARY INFORMATION:

Public Comments Solicited

We intend that any final action resulting from the proposed rule will be as accurate and as effective as possible. Therefore, we solicit comments or suggestions from the public, concerned governmental agencies, the scientific community, industry, or any other interested party concerning the proposed rule in light of the additional information. Generally, we seek information, data, and comments concerning:

(1) The taxonomic status of Z. h. preblei, Z. h. campestris, Z. h. intermedius, and other Z. hudsonius subspecies with a particular focus on Ramey et al. (2003, 2004a, 2004b, 2005), King et al. (2006) and associated peer reviews;

(2) The taxonomy, biology, ecology, distribution, status, and factors affecting Z. h. preblei, Z. h. campestris, Z. h. intermedius, and other Z. hudsonius subspecies;

(3) Data from any systematic surveys for Z. h. preblei, Z. h. campestris, Z. h. intermedius, and other Z. hudsonius subspecies, as well as any studies that may show population size or trends;

(4) Quantitative information regarding the life history, ecology, and habitat use of Z. h. preblei, Z. h. campestris, Z. h. intermedius, and other Z. hudsonius subspecies, as well as information regarding the applicability of information relevant to other subspecies;

(5) Information on the threats faced by the Z. h. preblei, Z. h. campestris, Z. h. intermedius, and other Z. hudsonius subspecies (or any potential DPS thereof) in relation to the five listing factors (as defined in section 4(a)(1) of the Endangered Species Act (ESA), as amended [16 U.S.C. 1531 et seq.]);

(6) Information regarding the effects of current land management on population distribution and abundance of Z. h. preblei, Z. h. campestris, Z. h. intermedius, and other Z. hudsonius subspecies; and

(7) Information regarding the possibility of contact and interaction within or between Z. h. preblei, Z. h. campestris, and adjacent subspecies of meadow jumping mouse (i.e., Zapus hudsonius intermedius and Z. h. pallidus) or other information relevant to a Distinct Population Segment analysis.

You may submit comments as indicated under ADDRESSES. If you wish to submit comments by e-mail, please avoid the use of special characters and any form of encryption. Please also include your name and return address in your e-mail message.

Our practice is to make comments, including names and home addresses of respondents, available for public review during regular business hours. Due to the high level of interest in this rulemaking process, we also may post comments on our website. Individual respondents may request that we withhold their home address from the rulemaking record, which we will honor to the extent allowable by law. There also may be circumstances in which we would withhold from the rulemaking record a respondent's identity, as allowable by law. If you wish us to withhold your name or address, you must state this prominently at the beginning of your comment. However, we will not consider anonymous comments. We will make all submissions from organizations or businesses, and from individuals identifying themselves as representatives or officials of organizations or businesses, available for public inspection in their entirety. Comments and other information received, as well as supporting information used to write the proposed rule, will be available for public inspection, by appointment, during normal business hours at the Colorado Field Office (see ADDRESSES section). In making a final decision on the proposal, we will take into consideration the comments and any additional information we receive. Such communications may lead to a final regulation that differs from the proposal.

Background

The Preble's meadow jumping mouse (Zapus hudsonius preblei) was listed as a threatened species on May 13, 1998 (63 FR 26517). At that time, Z. h. preblei was classified as a subspecies of the meadow jumping mouse based on a study by Krutzsch (1954). On February 2, 2005, the Service proposed to delist or remove Z. h. preblei from the List of Endangered and Threatened Animals (70 FR 5404). This proposal was based on an unpublished report (Ramey et al. 2004a) that suggested Z. h. preblei should be considered the same subspecies as the Bear Lodge meadow jumping mouse (Z. h. campestris). In the spring of 2005, we sought and received three expert peer reviews of this proposal in accordance with our 1994 Interagency Policy for Peer Review in Endangered Species Act Activities (59 FR 34270, July 1, 1994). As noted in our February 2, 2005, Federal Register notice proposing delisting of the Preble's meadow jumping mouse (70 FR 5404), we were expecting additional genetics information (including nuclear DNA results) within the next year that would provide additional information on meadow jumping mouse taxonomy.

In December 2004, Ramey et al. (2004b) released a revised version of their report that suggested further synonymization. Specifically, the authors suggested synonymizing Z. h. preblei, Z. h. campestris, and Z. h. intermedius. This unpublished report was not considered in the February 2, 2005, proposal to delist Z. h. preblei from the List of Endangered and Threatened Animals because it had not been peer-reviewed at that time. In the spring of 2005, the Service sought and obtained peer review of this report.

In August 2005, a manuscript, authored by Rob Roy Ramey II, Hsiu-Ping Liu, Clinton W. Epps, Lance M. Carpenter, and John D. Wehausen, titled “Genetic relatedness of the Preble's meadow jumping mouse (Z. h. preblei) to nearby subspecies of Z. hudsonius as inferred from variation in cranial morphology, mitochondrial DNA, and microsatellite DNA: implications for taxonomy and conservation” was published in the journal Animal Conservation (Ramey et al. 2005). As indicated in the title, this version of Ramey et al. included microsatellite information.

In January 2006, we received a final report analyzing the mitochondrial DNA and microsatellite DNA of five Z. hudsonius subspecies including—Z. h. preblei, Z. h. campestris, Z. h. intermedius, Z. h. pallidus, and Z. h. luteus (King et al. 2006). The King et al. (2006) report, which constitutes further testing of the conclusions of Ramey et al. (2003, 2004a, 2004b, 2005), has been peer-reviewed in accordance with U.S. Geological Survey methods as described in the Leetown Science Center Research Documentation Manual (U.S. Geological Survey 2003) but is unpublished.

All of the documents described above are available on-line at http://mountain-prairie.fws.gov/preble/. We are reopening the public comment period on the delisting proposal to allow the public to consider and comment on the above documents.

The two studies differ in sampling regime, sources of tissues chosen for analysis, number of molecular characters sequenced and microsatellite fragments surveyed, statistical tests applied, method used to portray genealogical relationships, and the criteria used to determine uniqueness. The different conclusions in the two studies suggest there is scientific disagreement regarding the application of the available data relevant to the proposed action (70 FR 5404, February 2, 2005) and, thus, we extend for not more than six months this rulemaking process as allowed by Section 4(b)(6)(B)(i) of the ESA. We will use the 6-month extension to assemble a panel of experts to carefully review and assess the two studies which represent the best available information on the genetics, morphology, and ecology of the species. The Service will make a final decision based on the best scientific and commercial information available, including but not limited to the expert panelists' judgments.

Author

The primary authors of this notice are the Colorado Field Office staff (see ADDRESSES section).

Authority: The authority for this action is the Endangered Species Act of 1973 (16 U.S.C. 1531 et seq.).

Dated: February 5, 2006.
H. Dale Hall,
Director, U.S. Fish and Wildlife Service.

[FR Doc. E6-2286 Filed 2-16-06; 8:45 am]

BILLING CODE 4310-55-P